ENVIRONMENTAL PROTECTION AGENCY

[FRL-8244-9]

Meeting of the National Drinking Water Advisory Council—Notice of Public Meeting

AGENCY: Environmental Protection Agency (EPA).

ACTION: Notice.

SUMMARY: Under Section 10(a)(2) of Public Law 92-423, “The Federal Advisory Committee Act,” notice is hereby given of a meeting of the National Drinking Water Advisory Council (NDWAC), established under the Safe Drinking Water Act, as amended (42 U.S.C. 300f et seq.). The primary topics to be discussed and considered by the Council are the issues and challenges facing the thousands of small drinking water systems nationwide. Status reports on other national drinking water program issues, such as the approach to a draft rule for drinking water supplies on airlines; the early implementation of the rules protecting drinking water supplies from microbial contaminants; the recently-promulgated Ground Water Rule; revisions to the existing Total Coliform Rule; and implementation recommendations for the Contaminant Candidate List 3 will be presented. If time permits, the Council will also focus on continuing efforts to propose performance measures and indicators for the national drinking water protection program.

DATES: The Council meeting will be held on December 14, 2006, from 9 a.m. to 5:30 p.m. and December 15, 2006, from 8:30 a.m. to noon, Central Standard Time.

ADDRESSES: The meeting will be held at the Renaissance Worthington Hotel, which is located at 200 Main Street, Fort Worth, Texas 76102.

FOR FURTHER INFORMATION CONTACT: Members of the public who would like to attend the meeting, present an oral statement, or submit a written statement, should contact Daniel Malloy, by e-mail at malloy.daniel@epa.gov, by phone 202-564-1724, or by regular mail at the U.S. Environmental Protection Agency, Office of Ground Water and Drinking Water (MC 4601M), 1200 Pennsylvania Avenue, NW., Washington, DC 20460.

SUPPLEMENTARY INFORMATION: The meeting is open to the public. The Council encourages the public's input and will allocate one hour (4:30-5:30 p.m.) on December 14, 2006, for this purpose. Oral statements will be limited to five minutes. It is preferred that only one person present the statement on behalf of a group or organization. To ensure adequate time for public involvement, individuals or organizations interested in presenting an oral statement should notify Daniel Malloy by telephone at 202-564-1724 no later than December 1, 2006. Any person who wishes to file a written statement can do so before or after a Council meeting. Written statements received by December 1, 2006, will be distributed to all members of the Council before any final discussion or vote is completed. Any statements received December 2, 2006, or after the meeting will become part of the permanent meeting file and will be forwarded to the Council members for their information.

Special Accommodations

For information on access or services for individuals with disabilities, please contact Dan Malloy at 202-564-1724 or by e-mail at malloy.daniel@epa.gov. To request accommodation of a disability, please contact Dan Malloy, preferably at least 10 days prior to the meeting to give EPA as much time as possible to process your request.

Dated: November 16, 2006.
Cynthia C. Dougherty,
Director, Office of Ground Water and Drinking Water.

[FR Doc. E6-19646 Filed 11-20-06; 8:45 am]

BILLING CODE 6560-50-P